DEPARTMENT OF HOMELAND SECURITY

Federal Emergency Management Agency

Agency Information Collection Activities: Submission for OMB Review; Comment Request

AGENCY: Federal Emergency Management Agency, Emergency Preparedness and Response Directorate, Department of Homeland Security.

ACTION: Notice and request for comments.

SUMMARY: The Federal Emergency Management Agency has submitted the following proposed information collection to the Office of Management and Budget for review and clearance in accordance with the requirements of the Paperwork Reduction Act of 1995 (44 U.S.C. 3507).

Title: Residential Basement Floodproofing Certificate.

Type of Information Collection: Extension of a currently approved collection.

OMB Number: 1660-0033.

Abstract: FEMA Form 81-78 is only used in communities that have been granted an exception by FEMA to allow the construction of flood proof residential basements in Special Flood Hazard Areas (SFHAs). Homeowners must have a registered professional engineer or architect complete FEMA Form 81-78 for development or inspection of structural design basements and certify that the basement design and methods of construction are in accordance with floodplain management ordinances. In any case homeowners are responsible for the fees involved with these services. Homeowners also provide FEMA Form 81-78 to their insurance agent to receive discounted flood insurance under the National Flood Insurance Program (NFIP).

Affected Public: Individuals or households.

Number of Respondents: 50.

Estimated Time Per Respondent: 3.25 hrs.

Estimated Total Annual Burden: 163 hrs.

Frequency of Response: On Occasions.

Comments: Interested persons are invited to submit written comments on the proposed information collection to e-mail address ahunt@omb.eop.gov or facsimile number (202) 395-7285 within 30 days of the date of this notice.

FOR FURTHER INFORMATION CONTACT: Requests for additional information or copies of the information collection should be made to Muriel B. Anderson, Chief, Records Management Branch, Information Resources Management Division, Information Technology Services Directorate, Federal Emergency Management Agency, Emergency Preparedness and Response Directorate, Department of Homeland Security 500 C Street, SW., Room 316, Washington, DC 20472. Facsimile number (202) 646-3347, or email address InformationCollections@fema.gov.

Dated: November 28, 2003.
Muriel B. Anderson,
Acting Division Director, Information Resources Management Division, Information Technology Services Directorate.

[FR Doc. 03-30291 Filed 12-4-03; 8:45 am]

BILLING CODE 9110-12-P